DEPARTMENT OF EDUCATION

[CFDA No. 84.325F]

National Center To Enhance the Professional Development of School Personnel Who Share Responsibility for Improving Results for Children With Disabilities; Final Extension of Project Period and Waiver

AGENCY: Office of Special Education Programs, Office of Special Education and Rehabilitative Services, Department of Education.

ACTION: Notice of final extension of project period and waiver for the National Center to Enhance the Professional Development of School Personnel Who Share Responsibility for Improving Results for Children with Disabilities.

SUMMARY: The Secretary issues this notice to waive the requirements in the Education Department General Administrative Regulations (EDGAR) that generally prohibit project periods exceeding five years and extensions of project periods involving the obligation of additional Federal funds. This extension of project period and waiver enables the currently funded National Center to Enhance the Professional Development of School Personnel Who Share Responsibility for Improving Results for Children with Disabilities to receive funding from October 1, 2011, through September 30, 2012.

DATES: The extension of project period and waiver is effective August 12, 2011.

FOR FURTHER INFORMATION CONTACT: Shedeh Hajghassemali, U.S. Department of Education, 400 Maryland Avenue, SW., room 4091, Potomac Center Plaza (PCP), Washington, DC 20202-2550. Telephone: (202) 245-7506.

If you use a telecommunications device for the deaf (TDD), call the Federal Relay Service (FRS), toll-free, at 1-800-877-8339.

SUPPLEMENTARY INFORMATION: On June 7, 2011, the Department published a notice in the Federal Register (76 FR 32968-32969) proposing an extension of project period and a waiver of 34 CFR 75.250 and 75.261(a) and (c) in order to—

(1) Enable the Secretary to provide additional funds to the currently funded National Center to Enhance the Professional Development of School Personnel Who Share Responsibility for Improving Results for Children with Disabilities (Center) for an additional 12-month period, from October 1, 2011, through September 30, 2012; and

(2) Request comments on the proposed extension of project period and waiver.

There are no substantive differences between the notice of proposed extension of project period and waiver and this notice of final extension of project period and waiver.

Public Comment

In response to our invitation in the notice of proposed project period and waiver, we did not receive any substantive comments. Generally, we do not address comments that do not express views on the substance of the notice of proposed extension of project period and waiver.

Waiver of Delayed Effective Date

The Administrative Procedure Act requires that a substantive rule must be published at least 30 days before its effective date, except as otherwise provided for good cause (5 U.S.C. 553(d)(3)). We received no substantive comments on the proposed extension of project period and waiver, and we have not made any substantive changes to the proposal. The Secretary has therefore determined to waive the delayed effective date to ensure a timely continuation grant to the entity affected.

Background

On June 19, 2006, the Department published a notice in the Federal Register (71 FR 35260) inviting applications for new awards for fiscal year (FY) 2006 for a National Professional Development Enhancement Center (Center), funded under the Personnel Development to Improve Services and Results for Children with Disabilities program authorized under section 662 of the Individuals with Disabilities Education Act (IDEA), 20 U.S.C. 1462.

The purpose of the Center is to provide pre-service training and professional development programs with high-quality instructional modules, materials, and resources in order to improve the overall quality of special education personnel training and professional development. The Center's goals are to help ensure that local educational agencies (LEAs) and schools have the capacity to implement school improvement programs; to close achievement gaps between students with disabilities and their peers; and to promote access to, and greater participation and progress in, the general education curriculum in the least restrictive environment for students with disabilities.

Based on the 2006 notice inviting applications, the Department made one award to Vanderbilt University to serve as the Center. The project period was 60 months, and it is scheduled to end on September 30, 2011.

We believe that it is not in the public interest to hold a new competition under this program in 2011 to fund a new Center as the Department is currently working on changes to the entire Personnel Development to Improve Services and Results for Children with Disabilities program. The program's new design will ensure that all projects the program supports are more strategically aligned with each other and that all projects better meet the needs of LEAs and schools for effective personnel. The Department is currently shaping these changes and expects to fund a new competition in FY 2012. However, we also have concluded that it is not in the public interest for the Center to have a lapse in the provision of the resources currently provided by the Center.

For these reasons, the Secretary waives the requirements in 34 CFR 75.250, which prohibit project periods exceeding five years; waives the requirements in 34 CFR 75.261(a) and (c), which limit the extension of a project period if the extension involves the obligation of additional Federal funds; and is issuing a continuation award under 34 CFR 75.253 in the amount of $1,350,000 to Vanderbilt University (H325F060003) to operate the Center for an additional 12-month period.

Waiving these regulations and issuing this continuation award ensure that pre-service and professional development programs will continue to receive instructional modules, materials, and resources to improve the overall quality of training for individuals who provide services to students with disabilities.

With this final extension of project period and waiver, the Center will conduct the following activities during FY 2012:

(a) Build on the previous work of the project by developing additional products, and disseminating both new and previously developed products to an increased number of institutions of higher education, State educational agencies, LEAs, and any other entities that provide training and professional development to individuals who provide services to students with disabilities.

(b) Develop products and services based on the input obtained from the comprehensive needs-assessments, textbook analyses, focus groups, and consumer-input processes previously conducted by the Center that tapped the experiences and expertise of an array of partners, consumers, and advisors, including staff from the Department's Office of Special Education Programs. In addition, the Center must continue to seek recommendations from consumers and the Department to guide the development of enhancements (e.g., interactive modules, case studies, activities, information briefs) and services (e.g., technical assistance to faculty, training of trainers, training sessions, and dissemination activities) provided by the Center.

(c) Continue to disseminate project products to instructors and their students through a cost-free, dedicated Web site that meets accessibility standards under section 508 of the Rehabilitation Act. (See http://www.section508.gov for additional information on these standards.)

Regulatory Flexibility Act Certification

The Secretary certifies that this final extension of project period and waiver will not have a significant economic impact on a substantial number of small entities. The only entities that will be affected are the current grantee serving as the Professional Development Enhancement Center and any other potential applicants.

Paperwork Reduction Act of 1995

The final extension of project period and the waiver do not contain any information collection requirements.

Intergovernmental Review

This program is subject to the requirements of Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Accessible Format

Individuals with disabilities can obtain this document in an accessible format (e.g., braille, large print, audiotape, or computer diskette) on request to the contact person listed in this section.

Electronic Access to This Document

The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: August 9, 2011.
Alexa Posny,
Assistant Secretary for Special Education and Rehabilitative Services.

[FR Doc. 2011-20605 Filed 8-11-11; 8:45 am]

BILLING CODE 4000-01-P